DEPARTMENT OF COMMERCE

International Trade Administration

[A-351-842, A-570-022, C-570-023, A-560-828, C-560-829]

Certain Uncoated Paper From Brazil, the People's Republic of China, and Indonesia: Affirmative Final Determinations of Circumvention of the Antidumping Duty Orders and Countervailing Duty Orders for Certain Uncoated Paper Rolls

AGENCY: Enforcement and Compliance, International Trade Administration, Department of Commerce.

SUMMARY: The Department of Commerce (Commerce) determines that imports of certain uncoated paper rolls from Brazil, the People's Republic of China (China), and Indonesia are circumventing the antidumping duty (AD) orders on certain uncoated paper (uncoated paper) from Brazil, China, and Indonesia, and that imports of certain uncoated paper rolls from China and Indonesia are circumventing the countervailing duty (CVD) orders on uncoated paper from China and Indonesia.

DATES: Applicable December 14, 2021.

FOR FURTHER INFORMATION CONTACT: Genevieve Coen or Rachel Greenberg, AD/CVD Operations, Office V, Enforcement and Compliance, International Trade Administration, U.S. Department of Commerce, 1401 Constitution Avenue NW, Washington, DC 20230; telephone: (202) 482-3251 or (202) 482-1110, respectively.

SUPPLEMENTARY INFORMATION:

Background

On November 13, 2020, and January 27, 2021, Commerce published the Preliminary Determinations ¹ for the anti-circumvention inquiries of the AD and CVD orders on uncoated paper from Brazil, China, and Indonesia with respect to uncoated paper rolls which are imported from Brazil, China, and Indonesia, and further processed into uncoated paper sheets subject to the Orders.² We invited parties to comment on the Preliminary Determinations. A summary of the events that occurred since Commerce published the Preliminary Determinations may be found in the respective Issues and Decision Memoranda.³ Commerce conducted these anti-circumvention inquiries in accordance with section 781(a) of the Tariff Act of 1930, as amended (the Act).

¹ See Certain Uncoated Paper from the People's Republic of China: Affirmative Preliminary Determinations of Circumvention of the Antidumping and Countervailing Duty Orders for Uncoated Paper Rolls, 85 FR 72624 (November 13, 2020) (China Preliminary Determination), and accompanying Preliminary Determination Memorandum (PDM); Certain Uncoated Paper from Brazil: Affirmative Preliminary Determination of Circumvention of the Antidumping Duty Order for Uncoated Paper Rolls, 86 FR 7261 (January 27, 2021) (Brazil Preliminary Determination), and accompanying PDM; and Certain Uncoated Paper from Indonesia: Affirmative Preliminary Determinations of Circumvention of the Antidumping and Countervailing Duty Orders for Uncoated Paper Rolls, 86 FR 7266 (January 27, 2021) (Indonesia Preliminary Determination), and accompanying PDM (collectively, Preliminary Determinations).

² See Certain Uncoated Paper from Australia, Brazil, Indonesia, the People's Republic of China, and Portugal: Amended Final Affirmative Antidumping Determinations for Brazil and Indonesia and Antidumping Duty Orders, 81 FR 11174 (March 3, 2016) (Orders).

³ See Memoranda, “Final Decision Memorandum for Anti-Circumvention Inquiry of the Antidumping Duty Order on Certain Uncoated Paper from Brazil: Uncoated Paper Rolls”; “Final Decision Memorandum for Anti-Circumvention Inquiries of the Antidumping and Countervailing Duty Orders on Certain Uncoated Paper from Indonesia: Uncoated Paper Rolls”; and “Anti-Circumvention Inquiries of the Antidumping Duty Orders on Certain Uncoated Paper from Brazil, China, and Indonesia, and the Countervailing Duty Orders on Certain Uncoated Paper from China and Indonesia: Uncoated Paper Rolls Certification,” dated concurrently with, and hereby adopted by, this notice (collectively, Issues and Decision Memoranda).

Scope of the Orders

The merchandise subject to these Orders includes uncoated paper in sheet form; weighing at least 40 grams per square meter but not more than 150 grams per square meter; that either is a white paper with a GE brightness level ⁴ of 85 or higher or is a colored paper; whether or not surface-decorated, printed (except as described below), embossed, perforated, or punched; irrespective of the smoothness of the surface; and irrespective of dimensions (Certain Uncoated Paper).

⁴ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

On September 1, 2017, Commerce determined that imports of uncoated paper with a GE brightness of 83 +/−1% (83 Bright paper), otherwise meeting the description of in-scope merchandise, constitute merchandise “altered in form or appearance in minor respects” from in-scope merchandise that are subject to these Orders.⁵

⁵ See Certain Uncoated Paper from Australia, Brazil, the People's Republic of China, Indonesia, and Portugal: Affirmative Final Determination of Circumvention of the Antidumping and Countervailing Duty Orders, 82 FR 41610 (September 1, 2017).

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the Orders is dispositive.

Merchandise Subject to the Anti-Circumvention Inquiries

These anti-circumvention inquiries cover certain uncoated paper rolls that are commonly, but not exclusively, known as “sheeter rolls” from Brazil, China, and Indonesia that are further processed in the United States into individual sheets of uncoated paper that would be subject to the Orders (i.e., paper that weighs at least 40 grams per square meter but not more than 150 grams per square meter; and that either is a white paper with a GE brightness level of 83 +/−1% or higher or is a colored paper (as defined above)). The uncoated paper rolls covered by these inquiries are converted into sheets of uncoated paper using specialized cutting machinery prior to printing, and are typically, but not exclusively, between 52 and 103 inches wide and 50 inches in diameter. For clarity, we herein refer to “subject-paper rolls” when referencing the certain uncoated paper rolls that may be converted into subject merchandise. Subject-paper rolls are classified under HTSUS category 4802.55.

Certain importers of the subject-paper rolls that are not converted into subject merchandise may certify that the rolls will not be further processed into subject merchandise covered by the scope of the Orders.⁶ Failure to comply with the requisite certification requirement may result in the merchandise being found subject to AD and/or CVD duties.

⁶ See Appendices IV through IX.

Analysis of Comments Received

All the issues raised in the case and rebuttal briefs that were submitted by parties in the respective inquiries are addressed in the Issues and Decision Memoranda. Lists of the issues raised regarding the Brazil and Indonesia determinations are attached to this notice at Appendices I and II, respectively. A list of the issues raised regarding the certification program are attached to this notice at Appendix III. No comments were submitted with respect to the China determination. The Issues and Decision Memoranda are public documents and are on file electronically via Enforcement and Compliance's Antidumping and Countervailing Duty Centralized Electronic Service System (ACCESS). ACCESS is available to registered users at http://access.trade.gov. In addition, complete versions of the Issues and Decision Memoranda can be accessed directly at https://access.trade.gov/public/FRNoticesListLayout.aspx.

Final Determinations

In the Preliminary Determinations, we determined that imports of subject-paper rolls that are converted into uncoated paper sheets are circumventing the Orders. Specifically, we determined that imports of subject-paper rolls from Brazil, China, and Indonesia are being finished and sold in the United States pursuant to the statutory and regulatory criteria laid out in section 781(a) of the Act and 19 CFR 351.225(g).

For the Brazil Preliminary Determination, we relied upon record evidence submitted by the petitioners,⁷ Suzano,⁸ Perez Trading Company (Perez), IP,⁹ and one U.S. company that requested proprietary treatment of its name. We also relied on adverse facts available (AFA) for Ahlstrom-Munksjo Brasil Industria e Comercio de Papeis Especiais Ltda (Ahlstrom) ¹⁰ because it failed to respond to Commerce's request for information.

⁷ The petitioners include Domtar Corporation; Packaging Corporation of America; North Pacific Paper Company; Finch Paper LLC; and United Steel, Paper and Forestry, Rubber, Manufacturing, Energy, Allied Industrial and Service Workers International Union.

⁸ Suzano includes Suzano S.A. and Suzano Pulp and Paper America, Inc.

⁹ IP includes International Paper do Brasil Ltda. and International Paper Exportadora Ltda.

¹⁰ Ahlstrom also operates under the names Ahlstrom Brasil Ltd. and Ahlstrom-Munksjö Brasil Indústria e Comércio de Papéis Especiais LTDA. Ahlstrom also previously operated under the names Munksjö Brasil Ind e Com de Papeis Especiais LTDA and Ahlstrom Brasil Ind e Com de Papeis Especiais LTDA. See Ahlstrom's Letter, “Response to September 3, 2021 Letter from the Department of Commerce Requesting Company Name Clarification,” dated September 9, 2021.

For the China Preliminary Determination, we relied upon information provided by the petitioners and on AFA for seven non-responsive companies because they failed to respond to Commerce's request for information.¹¹ Additionally, we considered the no shipment responses from Asia Symbol,¹² Gold Huasheng,¹³ and Marubeni.¹⁴

¹¹ These non-responsive companies are Central National Asia Limited, Kingdecor (Zhejiang) Co., Ltd., Shandong Sun Paper Industry Joint Stock Co Ltd, Sun Paper (Hong Kong) Co., Limited, and Sunpack Paper Products Company.

¹² Asia Symbol includes the following companies: Greenpoint Global Trading (Macao) Commercial Offshore Ltd. (Greenpoint)/Asia Symbol (Guangdong) Paper Co., Ltd./Asia Symbol (Shandong) Pulp and Paper Co., Ltd.

¹³ Gold Huasheng Paper Co., Ltd Inc. (Gold Huasheng) also includes its affiliated parties Gold East Paper Co., Ltd., Hainan Jinhai Pulp and Paper Company, and Ningbo Zhonghua Paper Co, Ltd.

¹⁴ Marubeni (China) Corporation, Ltd. (Marubeni) also includes its affiliates Marubeni America Corporation and Marubeni (Shanghai) Corporation, Ltd.

For the Indonesia Preliminary Determination, we based the determination on information provided by the petitioners, APP Indonesian Mills,¹⁵ APRIL,¹⁶ Great Champ Trading Limited, CellMark Paper Inc. (CellMark), Charta Global, and International Forest Products. We also relied on AFA in whole (for companies that failed to respond to Commerce's requests for information) ¹⁷ or in part (for CellMark, which submitted incomplete information). For a complete discussion of the evidence which led to our preliminary determinations, see the Preliminary Determinations and accompanying Preliminary Decision Memoranda.

¹⁵ APP Indonesian Mills includes PT. Indah Kiat Pulp and Paper Tbk; PT. Pabrik Kertas Tjiwi Kimia Tbk; and Pindo Deli Pulp and Paper.

¹⁶ APRIL includes PT Anugrah Kertas Utama; PT Riau Andalan Kertas; APRIL Fine Paper Macao Commercial Offshore Limited; A P Fine Paper Trading (Hong Kong) Limited; and APRIL International Enterprise Pte. Ltd.

¹⁷ These non-responsive companies are Advanced Paper; Alliance Converting LLC; Case Paper; LinkMax Paper; and Northwoods Paper Converting.

Our final determinations remain unchanged from the Preliminary Determinations. Accordingly, we determine, pursuant to section 781(a) of the Act and 19 CFR 351.225(g), that imports of certain uncoated paper rolls from Brazil, China, and Indonesia are circumventing the Orders. We made no changes to the certification programs.

Liquidation of Entries

For all entries of merchandise subject to the AD order on uncoated paper from Brazil, entered or withdrawn from warehouse for consumption on or before February 28, 2021, Commerce intends to instruct CBP to liquidate those entries at the applicable AD rates for those entries.¹⁸

¹⁸ Commerce has completed its administrative reviews of the AD order on uncoated paper from Brazil for the periods of March 1, 2019, through February 29, 2020, and March 2, 2020, through February 28, 2021. Therefore, Commerce will instruct CBP to liquidate all entries through the end of the last completed administrative review period.

For entries of subject-paper rolls from China that were entered, or withdrawn from warehouse, for consumption from October 10, 2019, through October 17, 2019, Commerce intends to instruct Customs and Border Protection (CBP) to liquidate those entries without regard to AD or CVD duties.¹⁹ For entries of subject-paper rolls from China that were produced, exported, or imported by companies other than the non-responsive companies,²⁰ entered, or withdrawn from warehouse, for consumption from November 6, 2020, through November 12, 2020, Commerce intends to instruct CBP to liquidate those entries without regard to AD or CVD duties.²¹

¹⁹ In the China Preliminary Determination, we suspended liquidation for entries produced or exported by CNAL, Kingdecor, Shandong Sun Paper, Sun Paper HK, and Sunpack starting October 10, 2019, the date we initiated these inquiries. To be consistent with the other inquiries for uncoated paper rolls, we are modifying this date to October 18, 2019, the publication date of the Initiation Notice.

²⁰ The non-responsive companies from the China inquiries are CNAL, Kingdecor, Shandong Sun Paper, Sun Paper HK, and Sunpack.

²¹ The China Preliminary Determination stated that for all other entries of subject-paper rolls, Commerce would instruct CBP to suspend liquidation beginning November 6, 2020, i.e., the signature date of the preliminary determination. To be consistent with the other inquiries for uncoated paper rolls, we are modifying the effective date for all other entries from China to November 13, 2020, i.e., the publication date of the China Preliminary Determination.

For all entries of merchandise subject to the AD order on uncoated paper from Indonesia, entered or withdrawn from warehouse for consumption on or before February 28, 2021, Commerce intends to instruct CBP to liquidate those entries at the applicable AD rates for those entries.²² For all entries of merchandise subject to the CVD order on uncoated paper from Indonesia, entered or withdrawn from warehouse for consumption on or before December 31, 2020, Commerce intends to instruct CBP to liquidate those entries at the applicable CVD rates for those entries.²³

²² Commerce is not conducting an administrative review of the AD order on uncoated paper from Indonesia for the period ending on February 28, 2021. Therefore, Commerce will instruct CBP to liquidate all entries through the end of the last administrative review period.

²³ Commerce is not conducting an administrative review of the CVD order on uncoated paper from Indonesia for the period ending on December 31, 2020. Therefore, Commerce will instruct CBP to liquidate all entries through the end of the last administrative review period.

Continuation of Suspension of Liquidation

As a result of this determination, and consistent with 19 CFR 351.225(l)(3), we will instruct CBP to continue to suspend the liquidation of all entries of subject-paper rolls entered under the Brazil, China, and Indonesia AD orders after February 28, 2021, and all entries entered under the China and Indonesia CVD orders after December 31, 2020, and to require cash deposits of estimated AD and CVD duties at the applicable subject merchandise rates.

Certification Requirements

As a result of these anti-circumvention proceedings, subject-paper rolls, as defined above, produced in Brazil, China, and Indonesia that are further processed into uncoated paper sheets in the United States, are subject to the . Accordingly, pursuant to 19 CFR 351.228,²⁴ Commerce is continuing to impose a certification requirement for purposes of enforcing and administering its final determinations. Therefore, if an importer imports subject-paper rolls from Brazil, China or Indonesia that will not be further processed into uncoated paper sheets, in order to not be subject to cash deposit requirements, the importer is required to meet the certification and documentation requirements described in Appendix IV for merchandise from Brazil, Appendix VI for merchandise from China, and VIII for merchandise from Indonesia. Properly certified entries are not subject to AD/CVD duties under the Orders. Exemption from AD and CVD duties under the Orders is permitted only if the certification and documentation specified in Appendices IV and V for merchandise from Brazil, Appendices VI and VII for merchandise from China, and VIII and IX for merchandise from Indonesia, are met.

²⁴ On September 20, 2021, Commerce adopted a new regulation, 19 CFR 351.228, which codifies Commerce's certification practice. See Regulations to Improve Administration and Enforcement of Antidumping and Countervailing Duty Laws, 86 FR 52300 (September 10, 2021) (adopting 19 CFR 351.228 effective October 20, 2021).

Notification Regarding Administrative Protective Order

This notice also serves as the only reminder to all parties subject to the administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is issued and published in accordance with section 781(a) of the Act, and 19 CFR 351.225(g).

Dated: December 7, 2021.
Ryan Majerus,
Deputy Assistant Secretary for Policy and Negotiations, performing the non-exclusive functions and duties of the Assistant Secretary for Enforcement and Compliance.

Appendix I

List of Topics Discussed in the Issues and Decision Memorandum: Brazil Final Determination

I. Summary

II. Background

III. Scope of the Order

IV. Merchandise Subject to the Anti-Circumvention Inquiry

V. Discussion of the Issues

Comment 1: Whether Commerce's Determination was Contrary to the Purpose of Section 781 of the Act

Comment 2: Whether the Merchandise Analyzed by Commerce is of the Same Class or Kind as Subject Merchandise and Whether the Merchandise Analyzed by Commerce is Further Processed in the United States

Comment 3: Whether the Production Process in the United States is Minor or Insignificant

Comment 4: Whether the Additional Factors Under Section 781(a)(3) of the Act Support an Affirmative Determination

Comment 5: Whether Commerce Properly Defined the Subject-Paper Rolls

Comment 6: Whether Commerce Considered All Record Information

Comment 7: Whether Commerce's Adverse Facts Available (AFA) Determination is Supported by Substantial Evidence

Comment 8: Whether a Country-Wide Finding is Appropriate

Comment 9: Whether Commerce Must Consider A Significant Injury Issue

VI. Recommendation

Appendix II

List of Topics Discussed in the Issues and Decision Memorandum: Indonesia Final Determination

I. Summary

II. Background

III. Scope of the Orders

IV. Merchandise Subject to the Anti-Circumvention Inquiries

V. Discussion of the Issues

Comment 1: Whether Commerce Had a Reasonable Basis to Initiate This Inquiry

Comment 2: Whether Commerce Properly Analyzed the Conversion Cost Factors

VI. Recommendation

Appendix III

List of Topics Discussed in the Issues and Decision Memorandum: Certification Program

I. Summary

II. Background

III. Scope of the Orders

IV. Merchandise Subject to the Scope and Anti-Circumvention Inquiries

V. Discussion of the Issues

Comment 1: Whether the Range of Products Covered by Certifications Should be Modified

Comment 2: Whether CBP Should Administer the Importer Certifications

Comment 3: Whether the Draft Certification Requirements Should Be Modified

Comment 4: Whether Commerce Should Allow Ahlstrom's Importers To Certify Subject Rolls

VI. Recommendation

Appendix IV

Certification Requirements: Brazil

If an importer imports subject-paper rolls from Brazil and claims that the subject-paper rolls will not be further processed into uncoated paper sheets covered by the Order, the importer is required to complete and maintain the importer certification attached hereto at Appendix V and all supporting documentation. Where the importer uses a broker to facilitate the entry process, it should obtain the entry summary number from the broker. Agents of the importer, such as brokers, however, are not permitted to make this certification on behalf of the importer.

All importers of subject-paper rolls from Brazil are eligible for the certification process detailed below, with the exception that entries of subject-paper rolls produced and/or exported by Ahlstrom Brasil Ltd., Ahlstrom-Munksjo Brasil Industria e Comercio de Papeis Especiais Ltda, and/or Ahlstrom-Munksjö Brasil Indústria e Comércio de Papéis Especiais LTDA. are ineligible for certification.

For entries of subject-paper rolls from Brazil entered, or withdrawn from warehouse, for consumption on or after the date this final determination was signed for which the importer claims that the rolls will not be further processed into uncoated paper subject to the order, the importer is required to meet the certification and documentation requirements detailed in the certifications in order for no suspension of liquidation and no cash deposit to be required for such entries. Among other requirements detailed below, importers are required to maintain a copy of any certifications, as well as sufficient documentation supporting the certification (i.e., documents maintained in the normal course of business, or documents obtained by the certifying party, for example, mill certificates, production records, invoices, etc.) for the later of: (1) A period of five years from the date of entry; or (2) a period of three years after the conclusion of any litigation in the United States courts regarding such entries.

For all shipments and/or entries for which certifications are required, importers should complete the required certification at or prior to the date of Entry Summary.

Appendix V

Importer Certification: Brazil

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of subject-paper rolls produced in Brazil that entered under entry summary number(s), identified below, and which are covered by this certification. Subject-paper rolls are defined as certain uncoated paper rolls commonly, but not exclusively, known as “sheeter rolls,” (rolls with paper that weigh at least 40 grams per square meter but not more than 150 grams per square meter; and paper that either is a white paper with a GE brightness level of 83 +/−1% or higher or is a colored paper) that may be converted into subject merchandise. The uncoated paper rolls are typically, but not exclusively, between 52 and 103 inches wide and 50 inches in diameter. Subject-paper rolls are classified under HTSUS category 4802.55. “Direct personal knowledge” refers to facts the certifying party is expected to have in its own records. For example, the importer should have direct personal knowledge of the importation of the product (e.g., the name of the exporter) in its records.

(C) If the importer is acting on behalf of the first U.S. customer, complete this paragraph, if not put “NA” at the end of this paragraph: The imported subject-paper rolls covered by this certification were imported by {NAME OF IMPORTING COMPANY} on behalf of {NAME OF U.S. CUSTOMER}, located at {ADDRESS OF U.S. CUSTOMER}.

(D) The imported subject-paper rolls covered by this certification were shipped to {NAME OF PARTY TO WHOM MERCHANDISE WAS FIRST SHIPPED IN THE UNITED STATES}, located at {ADDRESS OF SHIPMENT}.

(E) Select appropriate statement below:

__I have have direct personal knowledge of the facts regarding the end-use of the imported product because my company is the end-user of the imported product covered by this certification and I certify that the imported subject-paper rolls will not be used to produce subject merchandise. “Direct personal knowledge” includes information contained within my company's books and records.

__I have personal knowledge of the facts regarding the end-use of the imported product because my company is not the end-user of the imported product covered by this certification. However, I have been able to contact the end-user of the imported product and confirm that it will not use this product to produce subject merchandise. The end-user of the imported product is {COMPANY NAME} located at {ADDRESS}. “Personal knowledge” includes facts obtained from another party (e.g., correspondence received by the importer from the end-user of the product).

(F) The imported subject-paper rolls covered by this certification will not be further processed into uncoated paper sheets in the United States.

(G) This certification applies to the following entries (repeat this block as many times as necessary):

Entry Summary #:

Entry Summary Line Item #:

Foreign Seller:

Foreign Seller's Address:

Foreign Seller's Invoice #:

Foreign Seller's Invoice Line Item #:

Producer:

Producer's Address:

(H) I understand that {NAME OF IMPORTING COMPANY} is required to maintain a copy of this certification and sufficient documentation supporting this certification (i.e., documents maintained in the normal course of business, or documents obtained by the certifying party, for example, mill certificates, production records, invoices, etc.) for the later of: (1) A period of five years from the date of entry; or (2) a period of three years after the conclusion of any litigation in the United States courts regarding such entries.

(I) I understand that {NAME OF IMPORTING COMPANY} is required to provide this certification and supporting records to U.S. Customs and Border Protection (CBP) and/or the Department of Commerce (Commerce), upon request by the respective agency.

(J) I understand that the claims made herein, and the substantiating documentation, are subject to verification by CBP and/or Commerce.

(K) I understand that failure to maintain the required certifications, and/or failure to substantiate the claims made herein, and/or failure to allow CBP and/or Commerce to verify the claims made herein, may result in a de facto determination that all entries to which this certification applies are within the scope of the antidumping duty order on certain uncoated paper from Brazil. I understand that such finding will result in:

(i) Suspension of liquidation of all unliquidated entries (and entries for which liquidation has not become final) for which these requirements were not met;

(ii) the requirement that the importer post applicable antidumping duty cash deposits (as appropriate) equal to the rates determined by Commerce; and

(iii) the revocation of {NAME OF IMPORTING COMPANY}'s privilege to certify future imports of subject-paper rolls from Brazil as not being imported for purposes of further processing into the United States into uncoated paper sheets.

(L) I understand that agents of the importer, such as brokers, are not permitted to make this certification. Where a broker or other party was used to facilitate the entry process, {NAME OF IMPORTING COMPANY} obtained the entry summary number and date of entry summary from that party.

(M) This certification was completed at or prior to the date of entry summary.

(N) I am aware that U.S. law (including, but not limited to, 18 U.S.C. 1001) imposes criminal sanctions on individuals who knowingly and willfully make material false statements to the U.S. government.

Signature

{NAME OF COMPANY OFFICIAL}

{TITLE}

Appendix VI

Certification Requirements: China

If an importer imports subject-paper rolls from China and claims that the subject-paper rolls will not be further processed into uncoated paper sheets covered by the Orders, the importer is required to complete and maintain the importer certification attached hereto at Appendix VII and all supporting documentation. Where the importer uses a broker to facilitate the entry process, it should obtain the entry summary number from the broker. Agents of the importer, such as brokers, however, are not permitted to make this certification on behalf of the importer.

All importers of subject-paper rolls from China are eligible for the certification process detailed below. However, entries of subject-paper rolls produced and/or exported by Central National Asia Limited (CNAL), Kingdecor (Zhejiang) Co., Ltd. (Kingdecor), Shandong Sun Paper Industry Joint Stock Co Ltd (Shandong Sun Paper), Sun Paper (Hong Kong) Co., Limited (Sun Paper HK), and Sunpack Paper Products Company (Sunpack), are ineligible for certification.

For entries of subject-paper rolls from China entered, or withdrawn from warehouse, for consumption on or after the date this final determination was signed for which the importer claims that the rolls will not be further processed into uncoated paper subject to the Orders, the importer is required to meet the certification and documentation requirements detailed in the certifications in order for no suspension of liquidation and no cash deposit to be required for such entries. Among other requirements detailed below, importers are required to maintain a copy of any certifications, as well as sufficient documentation supporting the certification (i.e., documents maintained in the normal course of business, or documents obtained by the certifying party, for example, mill certificates, production records, invoices, etc.) for the later of: (1) A period of five years from the date of entry; or (2) a period of three years after the conclusion of any litigation in the United States courts regarding such entries.

For all shipments and/or entries for which certifications are required, importers should complete the required certification at or prior to the date of Entry Summary.

Appendix VII

Importer Certification: China

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of subject-paper rolls produced in the People's Republic of China (China) that entered under entry summary number(s), identified below, and which are covered by this certification. Subject-paper rolls are defined as certain uncoated paper rolls commonly, but not exclusively, known as “sheeter rolls,” (rolls with paper that weigh at least 40 grams per square meter but not more than 150 grams per square meter; and paper that either is a white paper with a GE brightness level of 83 +/−1% or higher or is a colored paper) that may be converted into subject merchandise. The uncoated paper rolls are typically, but not exclusively, between 52 and 103 inches wide and 50 inches in diameter. Subject-paper rolls are classified under HTSUS category 4802.55. “Direct personal knowledge” refers to facts the certifying party is expected to have in its own records. For example, the importer should have direct personal knowledge of the importation of the product (e.g., the name of the exporter) in its records.

(C) If the importer is acting on behalf of the first U.S. customer, complete this paragraph, if not put “NA” at the end of this paragraph: The imported subject-paper rolls covered by this certification were imported by {NAME OF IMPORTING COMPANY} on behalf of {NAME OF U.S. CUSTOMER}, located at {ADDRESS OF U.S. CUSTOMER}.

(D) The imported subject-paper rolls covered by this certification were shipped to {NAME OF PARTY TO WHOM MERCHANDISE WAS FIRST SHIPPED IN THE UNITED STATES}, located at {ADDRESS OF SHIPMENT}.

(E) Select appropriate statement below:

__I have direct personal knowledge of the facts regarding the end-use of the imported product because my company is the end-user of the imported product covered by this certification and I certify that the imported subject-paper rolls will not be used to produce subject merchandise. “Direct personal knowledge” includes information contained within my company's books and records.

__I have personal knowledge of the facts regarding the end-use of the imported product because my company is not the end-user of the imported product covered by this certification. However, I have been able to contact the end-user of the imported product and confirm that it will not use this product to produce subject merchandise. The end-user of the imported product is {COMPANY NAME}. “Personal knowledge” includes facts obtained from another party (e.g., correspondence received by the importer from the end-user of the product).

(F) The imported subject-paper rolls covered by this certification will not be further processed into uncoated paper sheets in the United States.

(G) This certification applies to the following entries (repeat this block as many times as necessary):

Entry Summary #:

Entry Summary Line Item #:

Foreign Seller:

Foreign Seller's Address:

Foreign Seller's Invoice #:

Foreign Seller's Invoice Line Item #:

Producer:

Producer's Address:

(H) I understand that {NAME OF IMPORTING COMPANY} is required to maintain a copy of this certification and sufficient documentation supporting this certification (i.e., documents maintained in the normal course of business, or documents obtained by the certifying party, for example, mill certificates, production records, invoices, etc.) for the later of: (1) A period of five years from the date of entry; or (2) a period of three years after the conclusion of any litigation in the United States courts regarding such entries.

(I) I understand that {NAME OF IMPORTING COMPANY} is required to provide this certification and supporting records to U.S. Customs and Border Protection (CBP) and/or the Department of Commerce (Commerce), upon request by the respective agency.

(J) I understand that the claims made herein, and the substantiating documentation, are subject to verification by CBP and/or Commerce.

(K) I understand that failure to maintain the required certifications, and/or failure to substantiate the claims made herein, and/or failure to allow CBP and/or Commerce to verify the claims made herein, may result in a de facto determination that all entries to which this certification applies are within the scope of the antidumping/countervailing duty orders on certain uncoated paper from China. I understand that such finding will result in:

(i) Suspension of liquidation of all unliquidated entries (and entries for which liquidation has not become final) for which these requirements were not met;

(ii) the requirement that the importer post applicable antidumping duty and/or countervailing duty cash deposits (as appropriate) equal to the rates determined by Commerce; and

(iii) the revocation of {NAME OF IMPORTING COMPANY}'s privilege to certify future imports of subject-paper rolls from China as not being imported for purposes of further processing into the United States into uncoated paper sheets.

(L) I understand that agents of the importer, such as brokers, are not permitted to make this certification. Where a broker or other party was used to facilitate the entry process, {NAME OF IMPORTING COMPANY} obtained the entry summary number and date of entry summary from that party.

(M) This certification was completed at or prior to the date of entry summary.

(N) I am aware that U.S. law (including, but not limited to, 18 U.S.C. 1001) imposes criminal sanctions on individuals who knowingly and willfully make material false statements to the U.S. government.

Signature

{NAME OF COMPANY OFFICIAL}

{TITLE}

Appendix VIII

Certification Requirements: Indonesia

If an importer imports subject-paper rolls from Indonesia and claims that the subject-paper rolls will not be further processed into uncoated paper sheets covered by the Orders, the importer is required to complete and maintain the importer certification attached hereto at Appendix IX and all supporting documentation. Where the importer uses a broker to facilitate the entry process, it should obtain the entry summary number from the broker. Agents of the importer, such as brokers, however, are not permitted to make this certification on behalf of the importer.

All importers of subject-paper rolls from Indonesia are eligible for the certification process detailed below, with the exception that entries of subject-paper rolls imported and/or purchased by Advanced Paper Enterprises, Inc., Alliance Converting LLC, Case Paper Company Inc., LinkMax Paper, Midwest Converting, Mohawk Fine Papers Inc., or Northwoods Paper Converting, are ineligible for certification.

For entries of subject-paper rolls from Indonesia entered, or withdrawn from warehouse, for consumption on or after the date these final determinations were signed for which the importer claims that the rolls will not be further processed into uncoated paper subject to the Orders, the importer is required to meet the certification and documentation requirements detailed in the certifications in order for no suspension of liquidation and no cash deposit to be required for such entries. Among other requirements detailed below, importers are required to maintain a copy of any certifications, as well as sufficient documentation supporting the certification (i.e., documents maintained in the normal course of business, or documents obtained by the certifying party, for example, mill certificates, production records, invoices, etc.) for the later of: (1) A period of five years from the date of entry; or (2) a period of three years after the conclusion of any litigation in the United States courts regarding such entries.

For all shipments and/or entries for which certifications are required, importers should complete the required certification at or prior to the date of Entry Summary.

Appendix IX

Importer Certification: Indonesia

I hereby certify that:

(A) My name is {IMPORTING COMPANY OFFICIAL'S NAME} and I am an official of {NAME OF IMPORTING COMPANY}, located at {ADDRESS OF IMPORTING COMPANY}.

(B) I have direct personal knowledge of the facts regarding the importation into the Customs territory of the United States of subject-paper rolls produced in Indonesia that entered under the entry summary number(s), identified below, and which are covered by this certification. Subject-paper rolls are defined as certain uncoated paper rolls commonly, but not exclusively, known as “sheeter rolls,” (rolls with paper that weigh at least 40 grams per square meter but not more than 150 grams per square meter; and paper that either is a white paper with a GE brightness level of 83 +/−1% or higher or is a colored paper) that may be converted into subject merchandise. The uncoated paper rolls are typically, but not exclusively, between 52 and 103 inches wide and 50 inches in diameter. Subject-paper rolls are classified under HTSUS category 4802.55. “Direct personal knowledge” refers to facts the certifying party is expected to have in its own records. For example, the importer should have direct personal knowledge of the importation of the product (e.g., the name of the exporter) in its records.

(C) If the importer is acting on behalf of the first U.S. customer, complete this paragraph, if not put “NA” at the end of this paragraph: The imported subject-paper rolls covered by this certification were imported by {NAME OF IMPORTING COMPANY} on behalf of {NAME OF U.S. CUSTOMER}, located at {ADDRESS OF U.S. CUSTOMER}.

(D) The imported subject-paper rolls covered by this certification were shipped to {NAME OF PARTY TO WHOM MERCHANDISE WAS FIRST SHIPPED IN THE UNITED STATES}, located at {ADDRESS OF SHIPMENT}.

(E) Select appropriate statement below:

__I have direct personal knowledge of the facts regarding the end use of the imported product because my company is the end user of the imported product covered by this certification and I certify that the imported subject-paper rolls will not be used to produce subject merchandise. “Direct personal knowledge” includes information contained within my company's books and records.

__I have personal knowledge of the facts regarding the end use of the imported product because my company is not the end user of the imported product covered by this certification. However, I have been able to contact the end user of the imported product and confirm that it will not use this product to produce subject merchandise. The end user of the imported product is {COMPANY NAME} located at {ADDRESS}. “Personal knowledge” includes facts obtained from another party (e.g., correspondence received by the importer from the end user of the product).

(F) The imported subject-paper rolls covered by this certification will not be further processed into uncoated paper sheets in the United States, and will not be sold to Advanced Paper Enterprises, Inc., Alliance Converting LLC, Case Paper Company Inc., LinkMax Paper, Midwest Converting, Mohawk Fine Papers Inc., or Northwoods Paper Converting.

(G) This certification applies to the following entries (repeat this block as many times as necessary):

Entry Summary #:

Entry Summary Line Item #:

Foreign Seller:

Foreign Seller's Address:

Foreign Seller's Invoice #:

Foreign Seller's Invoice Line Item #:

Producer:

Producer's Address:

(H) I understand that {NAME OF IMPORTING COMPANY} is required to maintain a copy of this certification and sufficient documentation supporting this certification (i.e., documents maintained in the normal course of business, or documents obtained by the certifying party, for example, mill certificates, production records, invoices, etc.) for the later of: (1) A period of five years from the date of entry; or (2) a period of three years after the conclusion of any litigation in the United States courts regarding such entries.

(I) I understand that {NAME OF IMPORTING COMPANY} is required to provide this certification and supporting records to U.S. Customs and Border Protection (CBP) and/or the Department of Commerce (Commerce), upon request by the respective agency.

(J) I understand that the claims made herein, and the substantiating documentation, are subject to verification by CBP and/or Commerce.

(K) I understand that failure to maintain the required certifications, and/or failure to substantiate the claims made herein, and/or failure to allow CBP and/or Commerce to verify the claims made herein, may result in a de facto determination that all entries to which this certification applies are within the scope of the antidumping/countervailing duty orders on certain uncoated paper from Indonesia. I understand that such finding will result in:

(i) Suspension of liquidation of all unliquidated entries (and entries for which liquidation has not become final) for which these requirements were not met;

(ii) the requirement that the importer post applicable antidumping duty and/or countervailing duty cash deposits (as appropriate) equal to the rates determined by Commerce; and

(iii) the revocation of {NAME OF IMPORTING COMPANY}'s privilege to certify future imports of subject-paper rolls from Indonesia as not being imported for purposes of further processing into the United States into uncoated paper sheets.

(L) I understand that agents of the importer, such as brokers, are not permitted to make this certification. Where a broker or other party was used to facilitate the entry process, {NAME OF IMPORTING COMPANY} obtained the entry summary number and date of entry summary from that party.

(M) This certification was completed at or prior to the date of entry summary.

(N) I am aware that U.S. law (including, but not limited to, 18 U.S.C. 1001) imposes criminal sanctions on individuals who knowingly and willfully make material false statements to the U.S. government.

Signature

{NAME OF COMPANY OFFICIAL}

{TITLE}

[FR Doc. 2021-26996 Filed 12-13-21; 8:45 am]

BILLING CODE 3510-DS-P